DEPARTMENT OF THE INTERIOR

National Park Service

[NPS-WASO-NAGPRA-NPS0034984; PPWOCRADN0-PCU00RP14.R50000]

Notice of Inventory Completion: New York State Museum, Albany, NY

AGENCY: National Park Service, Interior.

ACTION: Notice.

SUMMARY: In accordance with the Native American Graves Protection and Repatriation Act (NAGPRA), the New York State Museum (NSYM) has completed an inventory of human remains and associated funerary objects and has determined that there is a cultural affiliation between the human remains and associated funerary objects and Indian Tribes or Native Hawaiian organizations in this notice. The human remains and associated funerary objects were removed from Bronx, Dutchess, Orange, Sullivan, and Ulster Counties, NY.

DATES: Repatriation of the human remains and associated funerary objects in this notice may occur on or after January 9, 2023.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the NYSM. The National Park Service is not responsible for the determinations in this notice. Additional information on the determinations in this notice, including the results of consultation, can be found in the inventory or related records held by the NYSM.

Description

In 1957-1958, human remains representing, at minimum, two individuals were removed from the Archery Range site in Pelham Bay Park, Bronx County, NY, during excavations conducted by Mr. Edward Kaeser. These human remains were identified among a collection of animal bones Kaeser donated to the NYSM in 2008. They include a single hand bone belonging to an adult and a tibia fragment belonging to a second adult. No known individuals were identified. No associated funerary objects are present. Based on archeological evidence, these human remains date to the Late Woodland period.

In 1939, human remains representing, at minimum, two individuals were removed from the Goat Island site in the Hudson River, Dutchess County, NY, during excavations conducted by Dr. Mary Butler as part of the Hudson Valley Archaeological Survey sponsored by Vassar College. In 1950, the collections were donated to the NYSM. The human remains include fragmentary skeletal elements belonging to an adult male and a metatarsal belonging to an adolescent 12-14 years old. No known individuals were identified. The six associated funerary objects are three projectile points and fragments of three pottery vessels. Archeological evidence suggests the burials date from the late Early Woodland to early Middle Woodland periods.

Sometime prior to 2011, human remains representing, at minimum, one individual were removed from the Turtle Pond Hill site in Armenia, Dutchess County, NY, during excavations conducted by Mr. Kenneth Hoadley. In 2012, these human remains were donated to the NYSM as part of a larger collection. They consist of a cranial fragment belonging to a child. No known individual was identified. No associated funerary objects are present. Although the context of these human remains is unknown, archeological evidence indicates the Turtle Pond Hill site was occupied intermittently from the Late Archaic through Late Woodland periods.

Between 1965 and 1967, human remains representing, at minimum, one individual were removed from the Dutchess Quarry Cave 1 site near Middletown, Orange County, NY, during excavations conducted by Orange County Chapter of the New York State Archaeological Association. No burials were identified during the excavations. These human remains were found among a collection of animal bones removed from disturbed refuse deposits at the site that the NYSM acquired through a series of donations. The fragmentary, incomplete human remains belong to an adult of unknown sex. No known individual was identified. No associated funerary objects are present. Archeological evidence indicates the Dutchess Quarry Cave 1 site was visited intermittently from the late Paleo-Indian to Late Pre-contact periods.

In 1934 and 1940, human remains representing, at minimum, three individuals were removed from the O'Rourke site in Moodna, Orange County, NY, during excavations conducted by the Bear Mountain Trailside Historical Museum following their disturbance by construction. In 2007, the NYS Office of Parks, Recreation, and Historic Preservation transferred these human remains to the NYSM. The fragmentary remains belong to an adult female, a child 7-11 years old, and a child 6-11 years old. No known individuals were identified. The two associated funerary objects are one chert flake and one deer bone. Archeological evidence indicates long-term use of the O'Rourke site. These burials are associated with its main occupation, during the Late Woodland period.

In 1909, human remains representing, at minimum, 25 individuals were removed from the Van Etten site near Port Jervis, Orange County, NY, during excavations by Mr. Everett R. Burmaster on behalf of the NYSM. The fragmentary human remains represent three children 2-to-8 years old, one juvenile, seven adult females or possible females, 10 adult males or possible males, and four adults of unknown age and sex. No known individuals were identified. The 639 associated funerary objects are 581 glass beads, 44 brass buttons, seven Jesuit rings, one brass finger ring with a glass setting, one kaolin pipe, one leather pouch fragment, two small textile fragments, and two small fragments of wood.

In 1962, human remains representing, at minimum, one individual were removed from Horn Road also known as the Van Etten site near Port Jervis, Orange County, NY, by Mr. Lyman Vandermark following an accidental disturbance. In 2022, they were transferred to the NYSM by Mr. Douglas Wahl, who had acquired them as part of a larger collection. The human remains consist of a mandible fragment belonging to an adult male 40-50 years old. No known individual was identified. The 12 associated funerary objects are one pewter button, one lead musket ball, three gunflints, four iron nail fragments, fragments of one turtle shell rattle, and two tubular glass beads. Archeological evidence indicates the burials from the Van Etten site date to the first half of the 18th century, when the area was known to be the traditional territory of the Munsee or Lenape.

Between 1968 and 1970, human remains representing, at minimum, one individual were removed from the Ten Mile River Rockshelter in Tusten, Sullivan County, NY, during excavations conducted by the Orange County Chapter of the New York State Archaeological Association and assisted by Dr. Robert E. Funk of the NYSM. No burials were identified during excavation. These human remains were found among animal bones collected from the surface of the site and their context may have been the result of disturbances caused by earlier collectors. The human remains consist of cranial fragments belonging to an adult of unknown sex. No known individual was identified. No associated funerary objects are present. While the original context of the human remains is uncertain, archeological evidence indicates the Ten Mile River Rockshelter was used from the Late Archaic to early Contact periods.

In 1968 and 1969, human remains representing, at minimum, four individuals were removed from the Simpson 2 site, Ulster County, NY, during excavations conducted by avocational archeologists Mr. Seward Osborne and Mr. James Burggraf. In 2014, Dr. Joseph Diamond of the State University of New York at New Paltz transferred these human remains to the NYSM. The fragmentary postcranial remains belong to one male 40-50 years old, one possible older female, one adult of unknown sex, and one child 4-5 years old. No known individuals were identified. No associated funerary objects are present. Archeological evidence indicates repeated use of the Simpson 2 site from the Late Archaic to early Contact periods with the main occupation associated with the later periods.

In 1937, human remains representing, at minimum, one individual were removed from the Stone Ridge site, also known as Guido site in Marbletown, Ulster County, NY, by Mr. Harold Fuller following an accidental disturbance. Mr. Fuller donated these human remains to the NYSM that same year. The human remains represent a male 35-45 years old. No known individual was identified. The one associated funerary object is a stone celt.

Between 1975 and 1985, human remains representing, at minimum, one individual were removed from the Guido site, also known as the Stone Ridge site in Marbletown, Ulster County, NY, during excavations conducted by avocational archeologists Mr. George Van Sickle and Mr. James Burggraf. Subsequently, Dr. Joseph Diamond of the State University of New York at New Paltz transferred these human remains to the NYSM. The fragmentary human remains belong to an individual of unknown age and sex. No known individual was identified. The 12 associated funerary objects are one fragment of animal bone, four small pottery sherds, three chert flakes, and four pieces of chert shatter. Archeological evidence indicates the Stone Ridge/Guido site was occupied repeatedly, beginning in the Late Archaic period, with a primary occupation during the Late Woodland through early Contact periods.

Between 1971 and 1974, human remains representing, at minimum, 10 individuals were removed from the Grapes site near Marbletown, Ulster County, NY, during excavations conducted by avocational archeologists Mr. George Van Sickle and Mr. James Burggraf. In 2002, Dr. Joseph Diamond of the State University of New York transferred these human remains to the NYSM . The human remains belong to a child about 2 years old, a young adult 16-20 years old, five adult males 20-45 years old, an adult female 35-45 years old, and two adults of unknown age and sex. No known individuals were identified. The 701 associated funerary objects are 73 chert flakes, 23 pieces of chert shatter, one possible biface, 77 pottery sherds, eight bear claws, 25 fragments of shell, 482 fragments of animal bone, seven charcoal samples, and five soil samples. Archeological evidence indicates the Grapes site dates to the early Contact period, ca. A.D. 1580-1620.

Between 1957 and 1972, human remains representing, at minimum, 28 individuals were removed from the Hurley site in Hurley, Ulster County, NY, during excavations conducted by avocational archeologist Mr. James Burggraf. In 1994 these human remains were donated to the NYSM as part of a larger collection. The fragmentary, incomplete remains belong to three children, eight adult males, 15 adult females, and two adults of unknown sex. No known individuals were identified. The 1,295 associated funerary objects are 30 projectile points and fragments, 219 pottery sherds, one pottery vessel, 745 animal bone fragments, 35 stone bifaces and fragments, eight stone biface blanks, five stone end scrapers, 138 stone flakes, one stone core, one stone pestle, one stone muller, 11 hammerstones and pitted stones, one stone celt, 27 unmodified stones, eight fire-cracked rocks, four botanical samples, 16 charcoal samples, 31 shell fragments, seven soil samples, one fossil, two fragments of yellow ocher, one brick fragment, one kaolin pipe fragment, and one leather fragment. Archeological evidence indicates the Hurley site was occupied repeatedly from the Late Archaic to Late Woodland periods with a primary occupation during the Late Woodland period.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological information and geographical information.

Determinations

Pursuant to NAGPRA and its implementing regulations, and after consultation with the appropriate Indian Tribes and Native Hawaiian organizations, the NYSM has determined that:

• The human remains described in this notice represent the physical remains of 80 individuals of Native American ancestry.

• The 2,668 objects described in this notice are reasonably believed to have been placed with or near individual human remains at the time of death or later as part of the death rite or ceremony.

• There is a relationship of shared group identity that can be reasonably traced between the human remains and associated funerary objects described in this notice and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 9, 2023. If competing requests for repatriation are received, the NYSM must determine the most appropriate requestor prior to repatriation. Requests for joint repatriation of the human remains and associated funerary objects are considered a single request and not competing requests. The NYSM is responsible for sending a copy of this notice to the Indian Tribe identified in this notice.

Authority: Native American Graves Protection and Repatriation Act, 25 U.S.C. 3003, and the implementing regulations, 43 CFR 10.9, 10.10, and 10.14.

Dated: November 30, 2022.
Melanie O'Brien,
Manager, National NAGPRA Program.

[FR Doc. 2022-26790 Filed 12-8-22; 8:45 am]

BILLING CODE 4312-52-P